DEPARTMENT OF JUSTICE

Notice of Lodging of Proposed Consent Decree Under the Clean Air Act

On July 25, 2023, the Department of Justice lodged a proposed Consent Decree with the United States District Court for the Southern District of Ohio in the lawsuit entitled United States v. Globe Metallurgical, Inc., Civil Action No. 2:23-cv-02368-MHW.

The proposed Consent Decree resolves claims against Globe Metallurgical, Inc. (“Globe”) related to emissions of hazardous air pollutants from its ferroalloy production facility located in Waterford, Ohio. The Complaint filed in this matter seeks injunctive relief and civil penalties pursuant to sections 113(b) and 167 of the Clean Air Act (CAA), 42 U.S.C. 7413(b) and 7477, for violation of (1) the CAA's Prevention of Significant Deterioration of Air Quality (PSD) provisions; (2) the CAA's New Source Performance Standards (NSPS) provisions and the NSPS regulations for ferroalloy production facilities (subpart Z), and (3) the Ohio State Implementation Plan's opacity limits, as incorporated into Globe's Title V permit, and Ohio's Title V permit program. Under the proposed Consent Decree, Globe will pay a $2.6 million civil penalty, construct a new baghouse, restrict sulfur content of process inputs to specified limits, and implement a detailed monitoring regime to address opacity concerns. Additionally, as mitigation for past exceedances, Globe will extend its sulfur content limits and Subpart Z obligations to all furnaces.

The publication of this notice opens a period for public comment on the Consent Decree. Comments should be addressed to the Assistant Attorney General, Environment and Natural Resources Division, and should refer to United States v. Globe Metallurgical, Inc., D.J. Ref. No. 90-5-2-1-11643. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $17.25 (25 cents per page reproduction cost) payable to the United States Treasury.

Patricia S. McKenna,
Assistant Section Chief, Environmental Enforcement Section, Environment and Natural Resources Division.

[FR Doc. 2023-16190 Filed 7-28-23; 8:45 am]

BILLING CODE 4410-15-P